DEPARTMENT OF JUSTICE

Notice of Lodging of Proposed Consent Decree Under the Clean Water Act

On March 22, 2013, the Department of Justice lodged a proposed consent decree with the United States District Court for the Western District of Michigan in the lawsuit entitled United States v. Lake Michigan Trans-Lake Shortcut, Inc., Civil Action No. 1:13-cv-317.

The United States filed the lawsuit under the Clean Water Act. The complaint seeks injunctive relief and civil penalties for violations in connection with the defendant's discharge of ash from BADGER, a coal-fired, stream-driven ferry that operates between Manitowoc, Wisconsin, and Ludington, Michigan. The consent decree requires the defendant to cease ash discharges after BADGER's 2014 operating system, perform other injunctive relief, and pay a $25,000 civil penalty.

The publication of this notice opens a period for public comment on the consent decree. You may submit comments to the Assistant Attorney General, Environment and Natural Resources Division. The comments should refer to United States v. Lake Michigan Trans-Lake Shortcut, Inc., D.J. Ref. No. 90-5-1-1-10771. Comments must be submitted no later than thirty (30) days after the publication date of this notice. Forward comments either by email or U.S. mail:

To submit comments: | Send them to:
By e-mail | pubcomment-ees.enrd@usdoj.gov.
By U.S. mail | Assistant Attorney General, U.S. DOJ-ENRD, P.O. Box 7611, Washington, DC 20044-7611.

During the public comment period, you can examine and download the consent decree at this Justice Department Web site: http://www.usdoj.gov/enrd/Consent_Decrees.html. We will send you a paper copy of the consent decree upon written request and payment of reproduction costs (25 cents per page). Please mail your request and payment to: Consent Decree Library, U.S. DOJ-ENRD, P.O. Box 7611, Washington, DC 20044-7611.

Please enclose a check or money order for $10.50 payable to the United States Treasury.

Robert E. Maher, Jr.,
Assistant Section Chief, Environmental Enforcement Section, Environment and Natural Resources Division.

[FR Doc. 2013-07051 Filed 3-26-13; 8:45 am]

BILLING CODE 4410-15-P